DEPARTMENT OF HEALTH AND HUMAN SERVICES

Administration for Children and Families

Proposed Information Collection Activity; Comment Request

Proposed Projects:

Title: Title IV Foster Care Eligibility Re-Determinations and Re-Determinations of Candidacy for Foster Care.

OMB No.: New collection.

Description: The information collection is needed to ensure States are properly claiming title IV-E foster care maintenance payments and administrative costs for the appropriate children. A State must re-determine eligibility for title IV-E foster care and for title IV-E foster care candidacy to ensure that the State can justify requests for reimbursement incurred on behalf of these children. The Department is proposing that State agencies re-determine eligibility for title IV-E foster care every 12 months and every 6 months for candidates for title IV-E foster care. This is consistent with current policy. The information will be recorded in the child's case file as a programmatic record of foster care maintenance payments and/or administrative expenditures. This ensures that only children who are eligible for title IV-E foster care receive payments. The Children's Bureau does not require that a State report the information. The Children's Bureau does not mandate the method or variety of collection techniques States may use to re-determine a child's eligibility for title IV-E foster care or for title IV-E candidacy.

Respondents: State agencies.

Annual Burden Estimates
Instrument | Number of respondents | Number of responses per respondent | Average burden hours per response (hours) | Total burden hours
Title IV-E foster care eligibility re-determination | 264,670 | 1 | 0.5 | 132,335
Title IV-E foster care candidacy re-determination | 144,600 | 2 | 0.5 | 144,600
Estimated Total Burden Hours |  |  |  | 276.935

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 13, 2005.
Robert Sargis,
Reports Clearance Officer.

[FR Doc. 05-7761 Filed 4-18-05; 8:45 am]

BILLING CODE 4184-01-M